DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: Children's Hospitals Graduate Medical Education Payment Program (CHGME) (OMB No. 0915-0247): Revision

The CHGME Payment Program was enacted by Public Law 106-129 to provide Federal support for graduate medical education (GME) to “freestanding” children's hospitals. This legislation attempts to provide support for GME comparable to the level of Medicare GME support received by other, non-children's hospitals. The legislation indicates that eligible children's hospitals will receive payments for both direct and indirect medical education. Direct payments are designed to offset the expenses associated with operating approved graduate medical residency training programs and indirect payments are designed to compensate hospitals for expenses associated with the treatment of more severely ill patients and the additional costs relating to teaching residents in such programs.

Technical assistance workshops and consultation with applicant hospitals resulted in an opportunity for hospital representatives to raise issues and provide suggestions resulting in proposed revisions in the CHGME application forms and instructions.

Eligible children's teaching hospitals submit relevant data such as weighted and unweighted full-time equivalent (FTE) resident counts, inpatient discharges and case mix index information by which direct and indirect payments are made to the participating hospitals. Data are submitted by children's hospitals in an annual CHGME application in order to receive funding. Through a reconciliation process, participating hospitals are required to correct and furnish final FTE resident count numbers reflecting changes in counts reported in the annual application form. The reconciliation process begins with fiscal year (FY)2002 and occurs before the end of the fiscal year.

The estimated burden is as follows:

Form | Number of respondents | Responses per respondent | Hours per response | Total burden hours
HRSA 99-1 | 60 | 1 | 24 | 1,440
HRSA 99-1 (Reconciliation) | 60 | 1 | 8 | 480
HRSA 99-2 | 60 | 1 | 14 | 840
HRSA 99-4 | 60 | 1 | 14 | 840
Total | 60 |  |  | 3,600

Written comments and recommendations concerning the proposed information collection should be sent within 30 days of this notice to: John Morrall, Human Resources and Housing Branch, Office of Management and Budget, 725 17th St., NW, New Executive Office Building, Room 10235, Washington, DC 20503.

Dated: January 30, 2002.
Jane M. Harrison,
Director, Division of Policy Review and Coordination.

[FR Doc. 02-2754 Filed 2-5-02; 8:45 am]

BILLING CODE 4165-15-P